DEPARTMENT OF ENERGY

Federal Energy Regulatory Commission

[Project No. 503-048]

Idaho Power Company, Idaho; Notice of Availability of Draft Environmental Impact Statement for the Swan Falls Project

March 5, 2010.

In accordance with the National Environmental Policy Act of 1969 and the Federal Energy Regulatory Commission's (Commission or FERC's) regulations, 18 Code of Federal Regulations (CFR) part 380 (Order No. 486, 52 FR 47897), the Office of Energy Projects has reviewed Idaho Power Company's application for license for the Swan Falls Project (FERC Project No. 503-048), located on the Snake River in Ada and Owyhee counties, Idaho, about 35 miles southwest of Boise. The project currently occupies 529 acres of federal lands administered by the Bureau of Land Management; however, Idaho Power proposes a reduction in the project boundary to include only 181 acres of Federal lands. Commission staff has prepared a draft Environmental Impact Statement (EIS) for the project.

The draft EIS contains staff's evaluation of the applicant's proposal and alternatives for relicensing the Swan Falls Project. The draft EIS documents the views of governmental agencies, non-governmental organizations, affected Indian tribes, the public, the license applicant, and Commission staff.

A copy of the draft EIS is available for review at the Commission in the Public Reference Branch, Room 2a, located at 888 First Street, NE., Washington, DC 20426. The draft EIS also may be viewed on the Commission's Web site at http://www.ferc.gov using the “eLibrary” link. Enter the docket number excluding the last three digits in the docket number field to access the document. For assistance, contact FERC Online Support at FERCOnlineSupport@ferc.gov or toll-free at 1-866-208-3676, or for TTY, 202-502-8659.

You may also register online at http://www.ferc.gov/docs-filing/esubscription.asp to be notified via e-mail of new filings and issuances related to this or other pending projects. For assistance, contact FERC Online Support.

Comments should be filed with: Kimberly D. Bose, Secretary, Federal Energy Regulatory Commission, 888 First Street, NE., Washington, DC 20426. All comments must be filed within 45 days of the notice date in the Federal Register and should reference Project No. 503-048. Comments may be filed electronically via the Internet in lieu of paper. The Commission strongly encourages electronic filings. See 18 CFR 385.2001(a)(1)(iii) and the instructions on the Commission's Web site (http://www.ferc.gov) under the “e-Filing” link.

Anyone may intervene in this proceeding based on this draft EIS (18 CFR 380.10). You must file your request to intervene as specified above.¹ You do not need intervenor status to have your comments considered.

¹ Interventions may also be filed electronically via the Internet in lieu of paper. See the previous discussion on filing comments electronically.

For further information, contact James Puglisi by telephone at 202-502-6241 or by e-mail at James.Puglisi@ferc.gov.

Kimberly D. Bose,
Secretary.

[FR Doc. 2010-5526 Filed 3-12-10; 8:45 am]

BILLING CODE 6717-01-P